DEPARTMENT OF DEFENSE

Department of the Army, Corps of Engineers

Notice of Intent To Prepare a Tiered Environmental Impact Statement for the New Jersey Back Bays Coastal Storm Risk Management Feasibility Study

AGENCY: U.S. Army Corps of Engineers, DoD.

ACTION: Notice of intent.

SUMMARY: Pursuant to the requirements of the National Environmental Policy Act (NEPA), the U.S. Army Corps of Engineers, Philadelphia District (Corps) is preparing an integrated Feasibility Report/Tiered Environmental Impact Statement (EIS) for the proposed New Jersey Back Bays (NJBB) Coastal Storm Risk Management (CSRM) Feasibility Study. The study is assessing the feasibility of coastal storm risk management alternatives to be implemented within the authorized study area with a specific emphasis on the back bay areas along the New Jersey Atlantic Coast extending from Cape May Inlet to Shark River Inlet including the NJ Coastal Lakes Area.

DATES: Comments and suggestions must be submitted by January 16, 2020.

ADDRESSES: Pertinent information about the study can be found at: https://www.nap.usace.army.mil/Missions/Civil-Works/New-Jersey-Back-Bays-Study/. Interested parties are welcome to send written comments and suggestions concerning the scope of issues to be evaluated within the Tiered EIS to Steven D. Allen, Environmental Resources Branch, Planning Division, U.S. Army Corps of Engineers, Philadelphia District. Mail: Steven D. Allen, U.S. Army Corps of Engineers, Philadelphia District, CENAP-PL-E, Wanamaker Building, 100 Penn Square East, Philadelphia, PA 19107-3390; phone: (215) 656-6559; email: Steven.D.Allen@usace.army.mil.

FOR FURTHER INFORMATION CONTACT: Questions about the overall NJBB study should be directed to J.B. Smith, Project Manager, U.S. Army Corps of Engineers, Philadelphia District, Planning Division, Project Development Branch. Mail: J.B. Smith, U.S. Army Corps of Engineers, Philadelphia District, CENAP-PL-PC, Wanamaker Building, 100 Penn Square East, Philadelphia, PA 19107-3390; Phone: (215) 656-6579; email: J.B.Smith@usace.army.mil.

SUPPLEMENTARY INFORMATION:

1. Background

The U.S. Army Corps of Engineers (Corps), in partnership with the New Jersey Department of Environmental Protection (NJDEP), as the non-federal sponsor, are undertaking this study. The NJBB CSRM Feasibility Study area is one of 9 focus areas with vulnerable coastal populations identified in the North Atlantic Coast Comprehensive Study (NACCS). The NACCS was conducted in response to Public Law 113-2 and the Water Resource and Reform Development Act (WRRDA) of 2014 following the devastation in the wake of Hurricane Sandy, which greatly affected the study area in October of 2012. The purpose of the NJBB CSRM Feasibility Study is to identify comprehensive CSRM strategies to increase coastal resilience, and to reduce flooding risk from future storms and impacts of sea level change. The objective of the Study is to investigate CSRM problems and solutions to reduce damages from coastal flooding that affect population, critical infrastructure, critical facilities, property, and ecosystems. The authority for the proposed project is the resolution adopted by the U.S. House of Representatives Committee on Public Works and Transportation and the U. S. Senate Committee on Environment and Public Works dated December 1987. A Feasibility Cost Sharing Agreement (FCSA) was executed in 2016 with the NJDEP.

2. Study Area

The study area encompasses approximately 950 square miles located behind the New Jersey barrier islands of Monmouth, Ocean, Burlington, Atlantic and Cape May Counties, and includes the set of interconnected water bodies and coastal lakes that are separated from the Atlantic Ocean.

3. Corps Decision Making

As required by Council on Environmental Quality's Principles, Requirements and Guidelines for Water and Land Related Resources Implementation Studies all reasonable alternatives to the proposed Federal action that meet the purpose and need will be considered in the Tiered EIS. Tiering, which is defined in 40 CFR 1508.28, is a means of making the environmental review process more efficient by allowing parties to “eliminate repetitive discussions of the same issues and to focus on the actual issues suitable for decision at each level of environmental review” (40 CFR 1502.20). The Study will consider the full array of structural, non-structural, and natural and nature-based measures, and will consider past, current, and future coastal storm risk management and resilience planning initiatives and projects underway by the USACE and other Federal, State, and local agencies.

4. Public Participation

The Corps and the NJDEP hosted two agency workshop meetings in June 2017, with representatives from federal and state agencies, counties, municipalities, non-governmental organizations (NGOs), elected officials and academia. The Corps initially announced the preparation of an integrated Feasibility Report/EIS for study in the December 27, 2017 Federal Register. Two public NEPA scoping meetings were later held in the southern and northern regions of the study area in September 2018. Subsequent to the publication of the December 27, 2017 NOI, the Study was granted an exemption from the requirement to complete the feasibility study within 3 years, as required in Section 1001(a) of the Water Resources Reform and Development Act of 2014. This exemption was granted on October 31, 2018 on an interim basis, and allowed for an additional 17 months to complete the Draft Integrated Feasibility Report and Tier 1 EIS. Therefore, in order to align the revised study schedule with Executive Order 13807, Notice to Withdraw the original NOI was published in the February 20, 2019 Federal Register. To further provide the public with study information, an Interim Feasibility Report and Environmental Scoping Document was released on February 28, 2019 that identified the preliminary economic, environmental, engineering and other studies performed to date of the above referenced alternatives. This report presented the selection of a focused array of alternatives for further evaluation. A webinar was later held on March 14, 2019 to present the findings of the report and to solicit comments from the general public and stakeholders. In addition, comments, concerns and information submitted to the Corps are being evaluated and considered during the development of the Draft EIS. Comments received are continuing to aid the study progress and included in the draft report and will be part of the administrative record

5. Lead and Cooperating Agencies

The U.S. Army Corps of Engineers is the lead federal agency for the preparation of a Tiered EIS in order to meet the requirements of the NEPA and the NEPA Implementing Regulations of the President's Council on Environmental Quality (40 CFR 1500-1508). The following agencies have accepted the invitation to be Cooperating Agencies: The U.S. Environmental Protection Agency, the U.S. Fish and Wildlife Service, and the National Marine Fisheries Service. The preparation of a Tiered EIS will be coordinated with New Jersey State and local municipalities with discretionary authority relative to the proposed actions. The Draft Integrated Feasibility Report/Tiered EIS is currently scheduled for distribution to the public in March of 2020.

Dated: December 9, 2019.
Jeffrey L. Milhorn,
Major General, U.S. Army, Commander, North Atlantic Division.

[FR Doc. 2019-27122 Filed 12-16-19; 8:45 am]

BILLING CODE 3720-58-P